DEPARTMENT OF COMMERCE

International Trade Administration

[A-351-841, A-570-924, and A-520-803]

Polyethylene Terephthalate Film, Sheet and Strip From Brazil, the People's Republic of China, and the United Arab Emirates: Final Results of the Expedited Sunset Reviews of the Antidumping Duty Orders

AGENCY: Enforcement and Compliance, Formerly Import Administration, International Trade Administration, Department of Commerce.

ACTION: Notice.

SUMMARY: On October 1, 2013, the Department of Commerce (Department) initiated the sunset reviews of the review of the antidumping duty orders on Polyethylene Terephthalate Film, Sheet and Strip (PET film) from Brazil, the People's Republic of China (PRC), the United Arab Emirates (UAE), and Brazil. The Department determined that it was appropriate to conduct expedited reviews. The Department finds that revocation of these antidumping duty orders would be likely to lead to continuation or recurrence of dumping at the rates identified in the “Final Results of Review” section of this notice.

DATES: Effective February 24, 2014.

FOR FURTHER INFORMATION CONTACT: Jacqueline Arrowsmith, AD/CVD Operations, Office VII, Enforcement and Compliance, U.S. Department of Commerce, 14th Street and Constitution Avenue NW., Washington, DC 20230; telephone (202) 482-5255.

SUPPLEMENTARY INFORMATION:

Background

The antidumping duty orders on PET film from Brazil, the PRC, and the UAE were published on November 10, 2008.¹ The sunset reviews on the antidumping duty orders on PET film from Brazil, the PRC and the UAE were initiated by the Department on October 1, 2013, pursuant to section 751(c) of the Tariff Act of 1930, as amended (the Act).²

¹ See Polyethylene Terephthalate Film, Sheet, and Strip From Brazil, the People's Republic of China and the United Arab Emirates: Antidumping Duty Orders and Amended Final Determination of Sales at Less Than Fair Value for the United Arab Emirates, 73 FR 66595 (November 10, 2008).

² See Initiation of Five-Year (“Sunset”) Review, 78 FR 60253 (October 1, 2013).

On October 18, 2013, the Department issued a tolling memorandum extending all deadlines by 16 days for the duration of the government shutdown.³

³ See “Memorandum for The Record from Paul Piquado, Assistant Secretary of Enforcement and Compliance,” dated October 18, 2013 (Tolling Memorandum).

On October 31, 2013, The Department received a notice of intent to participate from DuPont Teijin Films, Mitsubishi Polyester Film, Inc., and SKC, Inc. (collectively, the petitioners), within the deadline specified in 19 CFR 351.218(d)(1)(i). Petitioners are manufacturers of a domestic like product in the United States and, accordingly, are domestic interested parties pursuant to section 771(9)(C) of the Act.

On November 18, 2013, the Department received an adequate substantive response to the notice of initiation from the domestic interested parties within the 30-day deadline specified in 19 CFR 351.218(d)(3)(i). The Department did not receive any responses from the respondent interested parties, i.e., PET Film producers and exporters from PRC, UAE, and Brazil. On the basis of the notice of intent to participate and adequate substantive response filed by the petitioners and the inadequate response from any respondent interested party, the Department decided to conduct expedited sunset reviews of these orders pursuant to section 751(c)(3)(B) of the Act and 19 CFR 351.218(e)(1)(ii)(C).

Scope of the Orders

The products covered by these orders are all gauges of raw, pretreated or primed PET film, whether extruded or coextruded. Excluded are metallized films and other finished films that have had at least one of their surfaces modified by the application of a performance-enhancing resinous or inorganic layer of more than 0.00001 inches thick. Also excluded is roller transport cleaning film which has at least one of its surfaces modified by application of 0.5 micrometers of SBR latex. Tracing and drafting film is also excluded. Imports of PET film were classifiable in the Harmonized Tariff Schedule of the United States (HTSUS) under item number 3920.62.00.90. Although the HTSUS subheadings are provided for convenience and customs purposes, the written description of the scope of these orders is dispositive.

Analysis of Comments Received

The issues discussed in the Decision Memorandum are the likelihood of continuation or recurrence of dumping, and the magnitude of the margins of dumping likely to prevail if these orders were revoked. The analysis addresses the impact of the Final Modification for Reviews ⁴ on these reviews. Parties can find a complete discussion of all issues raised in this review and the corresponding recommendations in this public memorandum which is on file electronically via Enforcement and Compliance's Antidumping and Countervailing Duty Centralized Electronic Service System (IA ACCESS). IA ACCESS is available to registered users at http://iaaccess.trade.gov and is available to all parties in the Central Records Unit in room 7046 of the main Commerce building. In addition, a complete version of the Decision Memorandum can be accessed directly on the Internet at http://trade.gov/enforcement/. The signed Decision Memorandum and electronic versions of the Decision Memorandum are identical in content.

⁴ See Antidumping Proceedings: Calculation of Weighted-Average Dumping Margin and Assessment Rate in Certain Antidumping Duty Proceedings; Final Modification, 77 FR 8101 (February 14, 2012) (Final Modification for Reviews).

Final Results of Review

Pursuant to sections 752(c)(1) and (3) of the Act, we determine that revocation of the antidumping orders of PET film from Brazil, the PRC and UAE would be likely to lead to continuation or recurrence of dumping. Further, we determine that the magnitude of the margins of dumping likely to prevail are as follows:

Brazil
Exporter/ producer | Margin (percent)
Terphane Inc | 44.36
All others | 28.72

PRC
Exporter | Producer | Margin (percent)
DuPont Teijin Films China Ltd | DuPont Hongji Foshan Co. Ltd | 3.49
DuPont Teijin Films China Ltd | DuPont Teijin Hongji Films Ningbo Co., Ltd | 3.49
Fuwei Films (Shandong) Co., Ltd | Fuwei Films (Shandong) Co., Ltd | 3.49
Shaoxing Xiangyu Green Packing Co., Ltd | Shaoxing Xiangyu Green Packing Co., Ltd | 3.49
Sichuan Dongfang Insulating Material Co., Ltd | Sichuan Dongfang Insulating Material Co., Ltd | 3.49
Tianjin Wanhua Co., Ltd | Tianjin Wanhua Co., Ltd | 3.49
Shanghai Uchem Co., Ltd | Sichuan Dongfang Insulating Material Co., Ltd | 3.49
Shanghai Uchem Co., Ltd | Shanghai Xishu Electric Material Co., Ltd | 3.49
PRC-wide Entity (including Jiangyin Jinghongda New Material Co., Ltd) | 76.72

UAE
Exporter/ producer | Margin (percent)
Flex Middle East FZE (Flex UAE) | 4.05
All others | 4.05

The Department is issuing and publishing these final results and notice in accordance with sections 751(c), 752(c), and 777(i)(1) of the Act.

Dated: February 14, 2014.
Paul Piquado,
Assistant Secretary for Enforcement and Compliance.

[FR Doc. 2014-03954 Filed 2-21-14; 8:45 am]

BILLING CODE 3510-DS-P